DEPARTMENT OF HEALTH AND HUMAN SERVICES

Centers for Disease Control and Prevention

[30Day-22-0488]

Agency Forms Undergoing Paperwork Reduction Act Review

In accordance with the Paperwork Reduction Act of 1995, the Centers for Disease Control and Prevention (CDC) has submitted the information collection request titled Interstate Travel of Persons: Report of Illness or Death (42 CFR part 70) to the Office of Management and budget (OMB) for review and approval. CDC previously published a “Proposed Data Collection Submitted for Public Comment and Recommendations” notice on April 1, 2022 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Interstate Travel of Persons: Report of Illness or Death (42 CFR part 70)—Revision—National Center for Emerging Zoonotic and Infectious Diseases (NCEZID), Centers for Disease Control and Prevention (CDC).

Background and Brief Description

Section 361 of the Public Health Service Act (42 U.S.C. 264) authorizes the Secretary of the Department of Health and Human Services to make and enforce regulations necessary to prevent the introduction, transmission, or spread of communicable diseases from foreign countries into the United States, or from one State or possession into any other State or possession. Regulations pertaining to preventing the importation and spread of communicable diseases from foreign countries (42 CFR part 71) are administered by the Centers for Disease Control and Prevention (CDC). Regulations pertaining to interstate control of communicable diseases (42 CFR part 70) are also administered by CDC.

Regulations found at 42 CFR part 70.4 require that the master of a vessel or a person in charge of a conveyance engaged in interstate traffic, on which a suspected case of communicable disease develops shall notify the local health authority at the next port of call, station, or stop, and take such measures to prevent the spread of the disease as the local health authority directs. There is no standard form, however CDC posts guidance for airlines related to these regulations on CDC's website: https://www.cdc.gov/quarantine/air/reporting-deaths-illness/guidance-reporting-onboard-deaths-illnesses.html.

Section 70.11 Report of death or illness onboard aircraft operated by an airline states:

(a) The pilot in command of an aircraft operated by an airline who is conducting a commercial passenger flight in interstate traffic under a regular schedule shall report as soon as practicable to the Director the occurrence onboard of any deaths or the presence of ill persons among passengers or crew and take such measures as the Director may direct to prevent the potential spread of the communicable disease, provided that such measures do not affect the airworthiness of the aircraft or the safety of flight operations.

(b) The pilot in command of an aircraft operated by an airline who reports in accordance with paragraph (a) of this section shall be deemed to satisfy the reporting obligation under 42 CFR 70.4.

For the purposes of these regulations, ill person means an individual who:

(1) Has a fever (a measured temperature of 100.4 °F [38 °C] or greater, or feels warm to the touch, or gives a history of feeling feverish) accompanied by one or more of the following: Skin rash, difficulty breathing, persistent cough, decreased consciousness or confusion of recent onset, new unexplained bruising or bleeding (without previous injury), persistent diarrhea, persistent vomiting (other than air sickness), headache with stiff neck, appears obviously unwell; or

(2) Has a fever that has persisted for more than 48 hours; or

(3) Has symptoms or other indications of communicable disease, as the CDC may announce through posting of a notice in the Federal Register.

Control of disease transmission within the United States is largely considered to be the province of State and local health authorities, with Federal assistance being sought by those authorities on a cooperative basis, without application of Federal regulations. The regulations at 42 CFR part 70 were developed to facilitate Federal action in the event of large outbreaks requiring a coordinated effort involving several States, or in the event in inadequate local control. While it is not known whether, or to what extent, situations may arise in which these regulations would be invoked, contingency planning for domestic emergency preparedness is not uncommon. If a domestic emergency occurs, the reporting and record keeping requirements contained in the regulations will be used by CDC to carry out quarantine responsibilities as required by law, specifically, to prevent the spread of communicable diseases from one State or possession into any other State or possession.

The data collected under 70.4 and 70.11 is also a critical part of CDC's routine and emergency response operations. It involves the collection of reports of illnesses that occur aboard domestic flights or maritime voyages within the U.S. For routine reports of illness aboard domestic voyages airplane captains will continue to report electronically (e.g., verbally via radio to Air Traffic Control or the airlines' points of contact [e.g., Operations Center, Flight Control, Airline Station Manager]). Masters of maritime vessels engaged in interstate travel may report via email or other electronic method.

The reporting of required and requested signs and symptoms of disease outlined above, as well as any death, is the minimum necessary to meet statutory and regulatory obligations, and is consistent with International Civil Aviation Organization (ICAO) standards for aircraft.

CDC anticipates certain cost burdens to respondents and record keepers due to the requirements. These costs fall into the following categories:

For reports of death or communicable disease made by a pilot in command of an aircraft, or a master of a vessel or person in charge of a conveyance engaged in interstate traffic, the requested burden is approximately 186 hours. This total is estimated from approximately 1,600 domestic reports of death or communicable disease a year, 1,400 being from aircrafts, and approximately 200 from other conveyances (water vessels, buses, or trains) with an average burden of seven minutes per report. There is no standard form for reporting to CDC or the health departments and there is no cost to respondents other than their time to participate.

Estimated Annualized Burden Hours
Type of respondent | Form name | Number of respondents | Number of responses per respondent | Average burden per response (in hours)
Pilot in command | 42 CFR 70.11 Report of death or illness onboard aircraft operated by airline (No Form) | 1,400 | 1 | 7/60
Master of vessel or person in charge of conveyance | 42 CFR 70.4 Report by the master of a vessel or person in charge of conveyance of the incidence of a communicable disease occurring while in interstate travel (No form) | 200 | 1 | 7/60

Jeffrey M. Zirger,
Lead, Information Collection Review Office, Office of Scientific Integrity, Office of Science, Centers for Disease Control and Prevention.

[FR Doc. 2022-13889 Filed 6-28-22; 8:45 am]

BILLING CODE 4163-18-P